DEPARTMENT OF ENERGY

Federal Energy Regulatory Commission

[Docket No. ER07-521-000]

New York Independent System Operator, Inc.; Notice of Designation of Certain Commission Personnel as Non-Decisional

December 11, 2007.

Commission staff member Dr. Harry Singh (Office of Energy Markets Regulation; 202-502-6341; harry.singh@ferc.gov) is assigned to help resolve issues concerning the New York Independent System Operator, Inc.'s (NYISO) proposal for Long-term Firm Transmission Rights (LTTRs), which NYISO submitted in compliance with the Commission's LTTR Final Rule.¹

¹ Long-Term Firm Transmission Rights in Organized Electricity Markets, Order No. 681, FERC Stats. & Regs. ¶31,226 (August 1, 2006), order on reh'g and clarification, Order No. 681-A, 117 FERC ¶61,201 (November 16, 2006) (together, LTTR Rule).

As “non-decisional” staff, Dr. Singh will not participate in an advisory capacity in the Commission's review of any offer of settlement or settlement agreement or in deliberations concerning the disposition of the NYISO proposal or the order ruling on that proposal.

Kimberly D. Bose,
Secretary.

[FR Doc. E7-24417 Filed 12-17-07; 8:45 am]

BILLING CODE 6717-01-P